DEPARTMENT OF COMMERCE

Economic Development Administration

Announcement of Performance Review Board Members

AGENCY: Economic Development Administration, Department of Commerce.

ACTION: Notice.

SUMMARY: This notice announces the names of new and existing members of the Economic Development Administration's Performance Review Board.

FOR FURTHER INFORMATION CONTACT: Deanna Shepherd, Economic Development Administration, Office of Human Resources, at (202) 482-2686, Room 7217, Washington, DC 20230.

SUPPLEMENTARY INFORMATION: 5 CFR 430.310 requires agencies to publish notice of Performance Review Board appointees in the Federal Register before their service begins. The role of the Performance Review Board is to review and make recommendations to the appointing authority on performance management issues such as appraisals, pay adjustments, bonuses, and Presidential Rank Awards for members of the Senior Executive Service. Sandy K. Baruah, Acting Assistant Secretary of Commerce for Economic Development, Economic Development Administration (EDA) has named the following members of the Economic Development Administration Performance Review Board:

1. Aimee Strudwick, Chief of Staff to the Deputy Secretary, Office of the Secretary, (Chairperson) (new);

2. Barbara Retzlaff, Director, Office of Budget, Office of the Secretary (new);

3. John Kneuer, Deputy Assistant Secretary of Commerce for Communications and Information, National Telecommunications and Information Administration (new);

4. Lisa Casias, Acting Deputy Chief Financial Officer and Acting Director for Financial Management, Office of the Secretary;

5. William J. Fleming, Deputy Director, Office of Human Resources Management, Office of the Secretary (new);

6. Deanna L. Shepherd, Executive Secretary to the EDA Performance Review Board, EDA's Office of Human Resources.

Dated: October 27, 2005.
Deanna L. Shepherd,
Human Resources Officer.

[FR Doc. 05-21854 Filed 11-1-05; 8:45 am]

BILLING CODE 3510-24-P